DEPARTMENT OF HEALTH AND HUMAN SERVICES

Centers for Disease Control and Prevention

Determination Concerning a Petition To Add a Class of Employees to the Special Exposure Cohort

AGENCY: National Institute for Occupational Safety and Health (NIOSH), Centers for Disease Control and Prevention, Department of Health and Human Services (HHS).

ACTION: Notice.

SUMMARY: The Department of Health and Human Services (HHS) gives notice of a determination concerning a petition to add a class of employees from the Reduction Pilot Plant in Huntington, West Virginia to the Special Exposure Cohort (SEC) under the Energy Employees Occupational Illness Compensation Program Act of 2000 (EEOICPA).

FOR FURTHER INFORMATION CONTACT: Grady Calhoun, Director, Division of Compensation Analysis and Support, National Institute for Occupational Safety and Health, 1090 Tusculum Avenue, MS C-45, Cincinnati, OH 45226-1938, Telephone: 877-222-7570. Information requests can also be submitted by email to DCAS@CDC.GOV.

SUPPLEMENTARY INFORMATION: On September 27, 2022, the Secretary of HHS determined that the following class of employees does not meet the statutory criteria for addition to the SEC as authorized under EEOICPA:

All International Nickel Company (INCO) security personnel who worked at any location within the Reduction Pilot Plant (RPP) during the period from June 7, 1976, through November 26, 1978.

Authority: [42 U.S.C. 7384q].

John J. Howard,
Director, National Institute for Occupational Safety and Health.

[FR Doc. 2022-26929 Filed 12-9-22; 8:45 am]

BILLING CODE 4163-18-P